CONSUMER PRODUCT SAFETY COMMISSION

Sunshine Act Meetings

TIME AND DATE: Wednesday, February 8, 2023—10:00 a.m. Open; and Wednesday, February 8, 2023—11:00 a.m. Closed (See MATTERS TO BE CONSIDERED for each meeting).

PLACE: These meetings will be held remotely.

STATUS: Commission Meetings—Open to the Public (10:00 a.m.) and Closed to the Public (11:00 a.m.)

MATTERS TO BE CONSIDERED:

Decisional Matter: Supplemental NPR to Update 16 CFR part 1101.

All attendees should pre-register for the Commission meeting using the following link: https://cpsc.webex.com/cpsc/onstage/g.php?MTID=e5e8a9ed4e0568f041338861eafb9f5c3.

After registering you will receive a confirmation email containing information about joining the meeting.

Briefing Matter: Closed meeting topic.

CONTACT PERSON FOR MORE INFORMATION: Alberta E. Mills, Office of the Secretary, U.S. Consumer Product Safety Commission, 4330 East West Highway, Bethesda, MD 20814, 301-504-7479 (Office) or 240-863-8938 (Cell).

Dated: February 1, 2023.
Alberta E. Mills,
Commission Secretary.

[FR Doc. 2023-02524 Filed 2-2-23; 11:15 am]

BILLING CODE 6355-01-P